SMALL BUSINESS ADMINISTRATION

[Declaration of Disaster #3595]

State of Michigan

As a result of the President's major disaster declaration on June 30, 2004, I find that Barry, Berrien, Cass, Genesee, Gladwin, Ingham, Ionia, Jackson, Kent, Livingston, Macomb, Mecosta, Oakland, Ottawa, Sanilac, Shiawassee, St. Clair, St. Joseph and Wayne Counties in the State of Michigan constitute a disaster area due to damages caused by severe storms, tornadoes, and flooding occurring on May 20 and continuing through May 24, 2004. Applications for loans for physical damage as a result of this disaster may be filed until the close of business on August 30, 2004, and for economic injury until the close of business on March 30, 2005, at the address listed below or other locally announced locations: U.S. Small Business Administration, Disaster Area 2 Office, One Baltimore Place, Suite 300, Atlanta, GA 30308.

In addition, applications for economic injury loans from small businesses located in the following contiguous counties may be filed until the specified date at the above location: Allegan, Arenac, Bay, Branch, Calhoun, Clare, Clinton, Eaton, Gratiot, Hillsdale, Huron, Isabella, Kalamazoo, Lake, Lenawee, Lapeer, Midland, Monroe, Montcalm, Muskegon, Newaygo, Ogemaw, Osceola, Roscommon, Saginaw, Tuscola, Van Buren and Washtenaw in the State of Michigan; and Elkhart, La Grange, La Porte and St. Joseph counties in the State of Indiana.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 359512. For economic injury the number is 9ZK400 for Michigan; and 9ZK500 for Indiana.

(Catalog of Federal Domestic Assistance Program Nos. 59002 and 59008)
Dated: July 1, 2004.
Herbert L. Mitchell,
Associate Administrator for Disaster Assistance.

[FR Doc. 04-15572 Filed 7-8-04; 8:45 am]

BILLING CODE 8025-01-P